DEPARTMENT OF EDUCATION

Applications for New Awards; Education Research Grant Programs; Correction

AGENCY: Institute of Education Sciences, Department of Education.

ACTION: Notice; correction.

SUMMARY: On September 11, 2023, the Department of Education (Department) published a notice inviting applications (NIA) for new awards for fiscal year (FY) 2024 for the Research Training Programs in the Education Sciences, Research Networks Focused on Critical Problems of Education Policy and Practice, and Statistical and Research Methodology in Education Grant Programs, Assistance Listing Numbers (ALNs) 84.305B, 84.305D, and 84.305N. We are correcting the contact information for the 84.305N competition. All other information in the NIA remains the same.

DATES: This correction is applicable September 21, 2023.

FOR FURTHER INFORMATION CONTACT: Teresa Cahalan, Department of Education, 400 Maryland Avenue SW, Washington, DC 20202. Telephone: (202) 245-7299. Email: Teresa.Cahalan@ed.gov.

If you are deaf, hard of hearing, or have a speech disability and wish to access telecommunications relay services, please dial 7-1-1.

SUPPLEMENTARY INFORMATION: On September 11, 2023, the Department published an NIA for new awards for FY 2024 for the Research Training Programs in the Education Sciences, Research Networks Focused on Critical Problems of Education Policy and Practice, and Statistical and Research Methodology in Education Grant Programs, ALNs 84.305B, 84.305D, and 84.305N. (88 FR 62352). We are correcting the contact information for the 84.305N competition.

Corrections:

In FR Doc. No. 2023-19497, appearing on pages 62352-62356 of the Federal Register of September 11, 2023, we make the following corrections:

On page 62356, in the fifth column of the table, in the row labeled “Digital Learning Platform Network Research Teams”, we remove “Erin.Higgens@ed.gov” and, in its place, add “Erin.Higgins@ed.gov”.

Also on page 62356, in the fifth column of the table, in the row labeled “Career and Technical Education Network Research Teams”, we remove “(202) 321-1299” and, in its place, add “(202) 987-0835”.

Mark Schneider,
Director, Institute of Education Sciences.

[FR Doc. 2023-20472 Filed 9-20-23; 8:45 am]

BILLING CODE 4000-01-P